DEPARTMENT OF TRANSPORTATION

Maritime Administration

Voluntary Intermodal Sealift Agreement/Joint Planning Advisory Group Meeting

AGENCY: Maritime Administration, Department of Transportation.

ACTION: Notice.

SUMMARY: The Voluntary Intermodal Sealift Agreement (VISA) program requires that a notice of the time, place, and nature of each VISA Joint Planning Advisory Group (JPAG) meeting be published in the Federal Register. On January 14, 2020, the Maritime Administration (MARAD) and the U.S. Transportation Command (USTRANSCOM) co-hosted a classified VISA JPAG meeting at Scott Air Force Base, Illinois. The JPAG is co-chaired by MARAD and USTRANSCOM and is convened jointly. The U.S. Department of Justice and Federal Trade Commission were informed of the JPAG meeting prior to its occurrence, in accordance with VISA program requirements.

Participants in the JPAG meeting were required to possess a secret clearance due to the classified nature of the event and attendance at the meeting was by invitation only. MARAD and USTRANSCOM invited participating VISA carriers and representatives of maritime labor organizations to attend the meeting. In addition, representatives from the U.S. Department of Transportation, MARAD, the U.S. Department of Homeland Security, the U.S. Coast Guard, the Joint Chiefs of Staff, and the Department of Defense (DOD) to include the Office of the Secretary of Defense, USTRANSCOM, the U.S. Navy, the Military Sealift Command, and the Surface Deployment and Distribution Command, as well as operational elements of Geographic Combatant Commands, were in attendance.

FOR FURTHER INFORMATION CONTACT: William G. McDonald, Director, Office of Sealift Support, U.S. Department of Transportation, Maritime Administration, 1200 New Jersey Avenue SE, Washington, DC 20590; Telephone (202) 366-0688 or electronic mail to: william.g.mcdonald@dot.gov.

SUPPLEMENTARY INFORMATION: Vice Admiral (VADM) Dee L. Mewbourne, Deputy Commander, USTRANSCOM, and Mr. Kevin Tokarski, Associate Administrator for Strategic Sealift, MARAD, welcomed the participants. Mr. Tokarski thanked the industry participants for their continued support. He spoke of the unique value of the JPAG in maximizing the effective use of joint resources to meet deployment and sustainment requirements and expressed confidence that JPAG meetings would serve to prepare attendees for what could occur during a VISA activation. VADM Mewbourne discussed the current operational picture and said JPAG operations are crucial to development of concepts of operations focused on VISA participants' ability to meet DOD requirements for moving contingency cargo from CONUS Sea Ports of Embarkation to designated OCONUS Ports of Debarkation and onward to operational areas.

The purpose of the JPAG meeting was to: (1) Brief members on current strategic and operational developments; (2) affirm industry's readiness, ability, and resilience to meet DOD contingency transport requirements, and; (3) discuss planning assumptions for potential deployment scenarios. The meeting was rated a success by industry participants, who offered informed and useful information on the provision of capacity and resources to meet DOD requirements.

VISA is a USDOT/DoD Emergency Preparedness Program (EPP) administered by MARAD in partnership with USTRANSCOM. The program is designed to provide DoD with assured access to vessels and intermodal capacity to meet contingency requirements in the event of national emergency. On September 30, 2019, MARAD published a notice in the Federal Register/Vol. 84, No. 189, 51710, announcing extension of the VISA program until October 1, 2024.

The following ocean carriers are VISA participants:

American International Shipping, LLC

American President Lines, Ltd.

American Roll-On Roll-Off Carrier, LLC

APL Marine Services, Ltd.

APL Maritime, Ltd.

Argent Marine Operations, Inc.

Beyel Brothers Inc.

Columbia Coastal Transport, LLC

Crimson Shipping Co., Inc.

Crowley Marine Services, Inc.

Crowley Puerto Rico Services, Inc.

Curtin Maritime, Corporation

Dann Marine Towing, LC

Dann Ocean Towing, Inc.

Dunlap Towing Company

Farrell Lines Incorporated

Fidelio Limited Partnership

Foss International, Inc.

Foss Maritime Company

Hapag-Lloyd USA, LLC

JM Ships, LLC

Laborde Marine, LLC

Liberty Global Logistics, LLC

Liberty Glory Corporation

Lynden Incorporated & Affiliates

Maersk Line, Limited

Matson Navigation Company, Inc.

McAllister Towing and Transportation Co., Inc.

McCulley Marine Services, Inc.

Moran Towing Corporation

National Shipping of America, LLC

Northcliffe Ocean Shipping & Trading Company, Inc.

Pacific Maritime Freight, Inc.

Pasha Hawaii Holdings LLC

Patriot Shipping, LLC

Resolve Towing & Salvage, Inc.

Samson Tug & Barge Co., Inc.

Schuyler Lines Navigation Company, LLC

Seabridge, Inc.

Sealift, Inc.

SeaTac Marine Services, LLC

Smith Maritime, Inc.

Stevens Towing Company, Inc.

Stevens Transportation, LLC

Superior Maritime Services, Inc.

TOTE Maritime Alaska, Inc.

TOTE Maritime Puerto Rico, LLC

Trailer Bridge, Inc.

Waterman Steamship Corporation

Waterman Transport, Inc.

Weeks Marine, Inc.

Western Towboat Company

Young Brothers, Limited

(Authority: 49 CFR 1.93(l), 44 CFR part 332)

* * *

Dated: January 21, 2020.
By Order of the Maritime Administrator.
T. Mitchell Hudson, Jr.,
Secretary, Maritime Administration .

[FR Doc. 2020-01200 Filed 1-23-20; 8:45 am]

BILLING CODE 4910-81-P